DEPARTMENT OF HOMELAND SECURITY

U.S. Citizenship and Immigration Services

Agency Information Collection Activities: Proposed Collection; Comment Request; Collection of Qualitative Feedback Through Focus Groups

AGENCY: U.S. Citizenship and Immigration Services, DHS.

ACTION: 60-day notice of submission of information collection approval from the Office of Management and Budget and request for comments.

SUMMARY: As part of a Federal Government-wide effort to streamline the process to seek feedback from the public on service delivery, the Department of Homeland Security, U.S. Citizenship and Immigration Services (USCIS) will be submitting a Generic Information Collection Request (Generic ICR): “Collection of Qualitative Feedback through Focus Groups” to OMB for approval under the Paperwork Reduction Act (PRA) (44 U.S.C. 3501 et. seq.).

DATES: Interested persons are invited to submit comments on or before April 9, 2012.

ADDRESSES: Written comments and/or suggestions regarding the item(s) contained in this notice, especially regarding the estimated public burden and associated response time, should be directed to the Department of Homeland Security (DHS), USCIS, Sunday Aigbe, Chief, Regulatory Products Division, Office of the Executive Secretariat, 20 Massachusetts Avenue NW., Washington, DC 20529-2020. Comments may also be submitted to DHS via facsimile to (202) 272-0997 or via email at USCISFRComment@dhs.gov and to the OMB USCIS Desk Officer via facsimile at (202) 395-5806. When submitting comments by email, please make sure to add “USCIS Qualitative Feedback through Focus Groups” in the subject box.

SUPPLEMENTARY INFORMATION: Title: Collection of Qualitative Feedback through Focus Groups.

Abstract: The information collection activity will garner qualitative customer and stakeholder feedback in an efficient, timely manner, in accordance with the Administration's commitment to improving service delivery. By qualitative feedback USCIS means information that provides useful insights on perceptions and opinions, but not responses to statistical surveys that yield quantitative results that can be generalized to the population of study. This feedback will provide information on customer and stakeholder perceptions, experiences and expectations, provide an early warning of issues with service, and/or focus attention on areas where communication, training, or changes in operations might improve delivery of products or services. These collections will allow for ongoing, collaborative and actionable communications between the Agency and its customers and stakeholders and contribute directly to the improvement of program management.

Feedback collected under this generic clearance will provide useful information, but it will not be generalized to the overall population. This data collection will not be used to generate quantitative information that is designed to yield reliably actionable results, such as monitoring trends over time or documenting program performance.

Below we provide the USCIS projected average burden estimates for the next three years:

Current Actions: New collection of information.

Type of Review: New Collection.

Affected Public: Individuals and Households, Businesses and Organizations.

Average Expected Annual Number of Activities: One.

Amount of Time Estimated for an Average Respondent To Respond

Focus Group with stakeholders: 500 Respondents × 1 hour and 30 minutes per response.

Focus Group with immigrants: 500 Respondents × 1 hour and 30 minutes per response.

An estimate of the total public burden (in hours) associated with the collection: 1,500 annual burden hours.

An agency may not conduct or sponsor, and a person is not required to respond to, an information collection request unless it displays a currently valid Office of Management and Budget control number. As individual information collection instruments are developed, they will be made available at: http://www.regulations.gov/.

We may also be contacted at: USCIS, Regulatory Products Division, 20 Massachusetts Avenue NW., Washington, DC 20529-2020, Telephone number (202) 272-8377.

Dated: February 2, 2012.
Sunday Aigbe,
Chief, Regulatory Products Division, Office of the Executive Secretariat, U.S. Citizenship and Immigration Services, Department of Homeland Security.

[FR Doc. 2012-2822 Filed 2-7-12; 8:45 am]

BILLING CODE 9111-97-P